DEPARTMENT OF HOMELAND SECURITY

U.S. Citizenship and Immigration Services

[CIS No. 2781-24; DHS Docket No. USCIS-2022-0007]

Implementation of Employment Authorization for Individuals Covered by Deferred Enforced Departure for Liberia

AGENCY: U.S. Citizenship and Immigration Services (USCIS), Department of Homeland Security (DHS).

ACTION: Notice of Employment Authorization for Individuals Covered by Deferred Enforced Departure (DED).

SUMMARY: On June 28, 2024, President Joseph Biden issued a memorandum to the Secretary of State and the Secretary of Homeland Security (Secretary) determining that it was in the foreign policy interest of the United States to defer until June 30, 2026, the removal of certain Liberians present in the United States and to provide them with employment authorization documentation. This notice provides information about Deferred Enforced Departure (DED) for Liberians and how eligible individuals may apply for DED-based Employment Authorization Documents (EADs) with USCIS, as well as for travel authorization.

DATES: The extension of DED began on June 28, 2024, and ends on June 30, 2026, for eligible noncitizens who are nationals of Liberia (or persons having no nationality who last habitually resided in Liberia) who are covered under DED by the June 28, 2024, Presidential Memorandum.

FOR FURTHER INFORMATION CONTACT:

• You may contact Rená Cutlip-Mason, Chief, Humanitarian Affairs Division, Office of Policy and Strategy, U.S. Citizenship and Immigration Services, Department of Homeland Security, by mail at 5900 Capital Gateway Drive, Camp Springs, MD 20746, or by phone at 240-721-3000.

• For further information on DED, including additional information on eligibility, please visit the USCIS DED web page at https://www.uscis.gov/humanitarian/deferred-enforced-departure. You can find specific information about DED for Liberia by selecting “DED Covered Country—Liberia” from the menu on the left of the DED web page.

• If you have additional questions about DED, please visit https://www.uscis.gov/tools. Our online virtual assistant, Emma, can answer many of your questions and point you to additional information on our website. If you are unable to find your answers there, you may also call our USCIS Contact Center at 800-375-5283 (TTY 800-767-1833).

• Applicants seeking information about the status of their individual Form I-765, Application for Employment Authorization, or Form I-131, Application for Travel Document, may check Case Status Online, available on the USCIS website at https://www.uscis.gov, or visit the USCIS Contact Center at https://www.uscis.gov/contactcenter.

• You can also find more information at local USCIS offices, listed on the USCIS website at https://www.uscis.gov/about-us/find-a-uscis-office, after this notice is published.

SUPPLEMENTARY INFORMATION:

Table of Abbreviations

CFR—Code of Federal Regulations

DED—Deferred Enforced Departure

DHS—U.S. Department of Homeland Security

DoS—Department of State

EAD—Employment Authorization Document

FNC—Final Non-confirmation

Form I-131—Application for Travel Document

Form I-765—Application for Employment Authorization

Form I-797—Notice of Action

Form I-9—Employment Eligibility Verification

Form I-912—Request for Fee Waiver

Form I-94—Arrival/Departure Record

FR—Federal Register

Government—U.S. Government

IER—U.S. Department of Justice, Civil Rights Division, Immigrant and Employee Rights Section

INA—Immigration and Nationality Act

SAVE—USCIS Systematic Alien Verification for Entitlements Program

Secretary—Secretary of Homeland Security

TTY—Text Telephone

USCIS—U.S. Citizenship and Immigration Services

U.S.C.—United States Code

Purpose of This Action

Under the President's constitutional authority to conduct the foreign relations of the United States, President Biden has determined that it is in the foreign policy interest of the United States to defer through June 30, 2026, the removal of certain Liberians who have been continually present in the United States since May 20, 2017, and were eligible for a grant of DED under the President's 2022 memorandum.¹ Through this Notice, as directed by the President, DHS is establishing procedures for Liberian individuals covered by DED to apply for EADs valid through June 30, 2026, and is automatically extending the validity of DED-related EADs bearing a Category Code of (a)(11) and a “Card Expires” date of March 30, 2020, January 10, 2021, June 30, 2022, and June 30, 2024, through June 30, 2026. Employment authorization and the procedures for obtaining EADs in this notice apply to any of the following individuals who are not subject to any of the ineligibilities described in President Biden's June 28, 2024, memorandum to the secretaries of State and Homeland Security: noncitizens of the United States who are nationals of Liberia, or individuals having no nationality who last habitually resided in Liberia, regardless of country of birth, who have been continuously physically present in the United States since May 20, 2017. Liberians must meet all eligibility criteria, including required documentation, for DED described in this notice. Finally, this notice provides instructions for eligible Liberians in the United States on how to request advance travel authorization.

¹ See Memorandum on Extending Eligibility for Deferred Enforced Departure for Liberians, June 28, 2024, https://www.whitehouse.gov/briefing-room/statements-releases/2024/06/28/memorandum-on-extending-eligibility-for-deferred-enforced-departure-for-liberians/.

What is DED?

• DED is an administrative deferral of removal ordered by the President. The authority to extend DED arises from the President's constitutional authority to conduct the foreign relations of the United States. DED has been authorized in situations where certain groups of noncitizens may face danger if required to return to countries, or any part of such countries, experiencing political instability, conflict, or other unsafe conditions, or when there are other foreign policy reasons for allowing a designated group of noncitizens to remain in the United States temporarily.

• Although DED is not a specific immigration status and does not require Liberians to file an application with USCIS, individuals covered by DED are not subject to removal from the United States, usually for a designated period. Furthermore, the President may direct the Secretary to provide certain benefits that are authorized under the immigration laws, such as employment authorization, to noncitizens covered by the DED directive during the designated period.

• USCIS publishes a Federal Register notice to inform the covered population on how to apply for any benefits provided. See instructions for Form I-765.

• The eligibility requirements for individuals who are covered by DED are based on the terms of the President's memorandum regarding DED and any relevant implementing requirements established by DHS. Since DED is a directive to defer removal of an individual, rather than a specific immigration status like Temporary Protected Status (TPS), there is no DED application form required for an individual to be covered by DED. If an individual covered by DED wants to apply for an EAD, they must file Form I-765. Similarly, if an individual covered by DED wants to apply for advance travel authorization, they must file Form I-131.

Background

The President has determined that there are compelling foreign policy reasons to extend DED for Liberians. Since 1991, the United States has provided safe haven for Liberians who were forced to flee their country as a result of armed conflict and widespread civil strife:

• Due to ongoing civil war, Liberia was first designated for TPS for 12 months effective March 27, 1991, with successive extensions by Attorneys General under President George H.W. Bush and President Clinton to September 28, 1998,² and a new designation (also termed “redesignation”) from September 29, 1998, until September 28, 1999.³

² See Designation of Liberia Under Temporary Protected Status Program, 56 FR 12746 (Mar. 27, 1991) and Extension of Designation of Liberia Under Temporary Protected Status Program, 57 FR 2932 (Jan. 24, 1992), 58 FR 7898 (Feb. 10, 1993), 59 FR 9997 (Mar. 2, 1994), 60 FR 16163 (Mar. 29, 1995), 61 FR 8076 (Mar. 1, 1996), Extension of Designation and Redesignation of Liberia Under Temporary Protected Status Program, 62 FR 16608 (Apr. 7, 1997), and Termination of Designation of Liberia Under Temporary Protected Status Program After Final 6-Month Extension, 63 FR 15437 (Mar. 31, 1998).

³ See Redesignation of Liberia Under Temporary Protected Status Program, 63 FR 51958 (Sept. 29, 1998).

• Although Attorney General (AG) Reno announced the termination of TPS effective September 28, 1999,⁴ President Clinton authorized DED for certain Liberians in the United States until September 29, 2000, citing the fragile political and economic situation in the country at the time,⁵ and DED was subsequently extended through September 29, 2002.⁶

⁴ See Termination of Designation of Liberia Under the Temporary Protected Status Program, 64 FR 41463 (Jul. 30, 1999).

⁵ See Presidential Memorandum for the Attorney General on Measures Regarding Certain Liberians in the United States, Sept. 27, 1999, https://clintonwhitehouse6.archives.gov/1999/09/1999-09-27-memorandum-on-liberians.html.

⁶ See Presidential Memorandum for the Attorney General on Measures Regarding Certain Liberians in the United States, Sept. 25, 2001, https://georgewbush-whitehouse.archives.gov/news/releases/2001/09/text/20010925-7.html.

• In October 2002, due to the outbreak of another civil war, AG Ashcroft designated Liberia for TPS from October 1, 2002 to October 1, 2003 and subsequently, Secretaries of Homeland Security redesignated Liberia for TPS and extended the designation through October 1, 2006.⁷ Secretary Chertoff announced the termination of TPS for Liberia effective October 1, 2007.⁸ In September 2007, President Bush announced DED for certain Liberians in the United States for 18 months, from October 1, 2007 until March 31, 2009.⁹ Following this DED authorization, DED was extended 5 times: (1) from March 31, 2009, for 18 months; ¹⁰ (2) from March 31, 2010, for 18 months; ¹¹ (3) from September 30, 2011, for 18 months; ¹² (4) from March 31, 2013, for 18 months; ¹³ and (5) from October 1, 2014, for 24 months.¹⁴

⁷ See Designation of Liberia Under the Temporary Protected Status Program, 67 FR 61664 (Oct. 1, 2002), Extension of the Designation of Liberia Under the Temporary Protected Status Program, 68 FR 46648 (Aug. 6, 2003), Termination and Re-designation of Liberia for Temporary Protected Status, 69 FR 52297 (Aug. 25, 2004), and Extension of the Designation of Liberia for Temporary Protected Status, 70 FR 48176 (Aug. 16, 2005).

⁸ See Termination of the Designation of Liberia for Temporary Protected Status; Automatic Extension of Employment Authorization Documentation for Liberia TPS Beneficiaries, 71 FR 55000 (Sept. 20, 2006).

⁹ See Presidential Memorandum for the Secretary of Homeland Security on Measures Regarding Certain Liberians in the United States, Sept. 12, 2007, https://georgewbush-whitehouse.archives.gov/news/releases/2007/09/20070912-10.html.

¹⁰ See Presidential Memorandum for the Secretary of Homeland Security on Deferred Enforced Departure for Liberians, Mar. 23, 2009, https://obamawhitehouse.archives.gov/the-press-office/presidential-memorandum-regarding-deferred-enforced-departure-liberians.

¹¹ See Presidential Memorandum for the Secretary of Homeland Security on Deferred Enforced Departure for Liberians, Mar. 19, 2010, https://obamawhitehouse.archives.gov/the-press-office/presidential-memorandum-deferred-enforced-departure-liberians.

¹² See Presidential Memorandum for the Secretary of Homeland Security on Deferred Enforced Departure for Liberians, Aug. 16, 2011, https://obamawhitehouse.archives.gov/the-press-office/2011/08/16/memorandum-president-regarding-deferred-enforced-departure-liberians.

¹³ See Presidential Memorandum for the Secretary of Homeland Security on Deferred Enforced Departure for Liberians, Mar. 15, 2013, https://obamawhitehouse.archives.gov/the-press-office/2013/03/15/presidential-memorandum-deferred-enforced-departure-liberians.

¹⁴ See Presidential Memorandum for the Secretary of Homeland Security on Deferred Enforced Departure for Liberians, Sept. 26, 2014, https://obamawhitehouse.archives.gov/the-press-office/2014/09/26/presidential-memorandum-deferred-enforced-departure-liberians.

• In November 2014, Secretary Johnson designated Liberia for TPS from November 21, 2014, through May 21, 2016, due to an outbreak of Ebola virus disease in West Africa.¹⁵ TPS for Liberia was then extended from May 22, 2016, through November 21, 2016.¹⁶ In September 2016, Secretary Johnson announced a six-month extension of TPS benefits for an orderly transition before termination of Liberia's TPS designation effective May 21, 2017.¹⁷

¹⁵ See Designation of Liberia for Temporary Protected Status, 79 FR 69502 (Nov. 21, 2014).

¹⁶ See Extension of the Designation of Liberia for Temporary Protected Status, 81 FR 15328 (Mar. 22, 2016).

¹⁷ See Six-Month Extension of Temporary Protected Status Benefits for Orderly Transition Before Termination of Liberia's Designation for Temporary Protected Status, 81 FR 66059 (Sept. 26, 2016).

• In September 2016, President Obama extended DED for Liberians from October 1, 2016, for 18 months.¹⁸ In March 2018, President Trump announced the expiration of DED for Liberians effective March 31, 2019, following a 12-month wind-down period.¹⁹ In March 2019, President Trump announced the extension of DED for Liberians for an additional 12-month wind-down period through March 30, 2020.²⁰

¹⁸ See Presidential Memorandum for the Secretary of Homeland Security on Deferred Enforced Departure for Liberians, Sept. 28, 2016, https://obamawhitehouse.archives.gov/the-press-office/2016/09/28/presidential-memorandum-deferred-enforced-departure-liberians.

¹⁹ See Presidential Memorandum for the Secretary of State and the Secretary of Homeland Security, Mar. 27, 2018, https://trumpwhitehouse.archives.gov/presidential-actions/presidential-memorandum-secretary-state-secretary-homeland-security/.

²⁰ See Presidential Memorandum on Extension of Deferred Enforced Departure for Liberians, Mar. 28, 2019, https://trumpwhitehouse.archives.gov/presidential-actions/memorandum-extension-deferred-enforced-departure-liberians/.

• On December 20, 2019, President Trump signed the National Defense Authorization Act (NDAA) for Fiscal Year 2020 (Pub. L. 116-92) which included a provision titled “Liberian Refugee Immigration Fairness” (LRIF). LRIF provided certain Liberians, including those who had been continuously physically present in the United States since November 20, 2014, as well as their spouses, children, and unmarried sons or daughters, the ability to adjust their status to that of a U.S. Lawful Permanent Resident. Under this provision, eligible Liberian nationals and eligible family members had until December 20, 2020, to apply for adjustment of status.²¹

²¹ See National Defense Authorization Act for Fiscal Year 2020, Public Law 116-92, Title LXXVI-Other Matters, Sec. 7611 Liberian Refugee Immigration Fairness, https://www.govinfo.gov/content/pkg/PLAW-116publ92/html/PLAW-116publ92.htm.

• In March 2020, President Trump issued a memorandum extending the wind-down period for DED for Liberians through January 10, 2021.²² In December 2020, the Consolidated Appropriations Act, 2021 (Pub. L. 116-260) extended the LRIF application deadline for an additional year, from December 20, 2020, to December 20, 2021.²³

²² See Presidential Memorandum for the Secretary of State and the Secretary of Homeland Security on Extending the Wind-Down Period for Deferred Enforced Departure for Liberians, Mar. 30, 2020, https://trumpwhitehouse.archives.gov/presidential-actions/memorandum-extending-wind-period-deferred-enforced-departure-liberians/.

²³ See Consolidated Appropriations Act, 2021, Part 1, Public Law 116-260, Dec. 27, 2020, Division O—Extensions and Technical Corrections, Title IX—Adjustment of Status for Liberian Nationals Extension, Sec. 901, https://www.congress.gov/116/plaws/publ260/PLAW-116publ260.pdf.

• In January 2021, President Biden reinstated DED for Liberians from January 10, 2021, through June 30, 2022, with limited exclusions for certain ineligibilities.²⁴ In June 2022, President Biden extended and expanded DED for Liberians from June 30, 2022, through June 30, 2024.²⁵ In addition to those individuals who were covered by DED on June 30, 2022, President Biden expanded DED coverage to certain Liberians, and individuals without nationality who last habitually resided in Liberia, who had been continuously physically present in the United States since May 20, 2017, and were not subject to the categories of individuals excluded from DED by the President's Memorandum. In June 2024, President Biden again extended DED for Liberians from June 30, 2024, through June 30, 2026.²⁶

²⁴ See Presidential Memorandum for the Secretary of State and the Secretary of Homeland Security on Reinstating Deferred Enforced Departure for Liberians, Jan. 20, 2021, https://www.whitehouse.gov/briefing-room/presidential-actions/2021/01/20/reinstating-deferred-enforced-departure-for-liberians/.

²⁵ See Presidential Memorandum for the Secretary of State and the Secretary of Homeland Security on Extending and Expanding Eligibility for Deferred Enforced Departure for Liberians, June 27, 2022, https://www.whitehouse.gov/briefing-room/presidential-actions/2022/06/27/memorandum-on-extending-and-expanding-eligibility-for-deferred-enforced-departure-for-liberians/.

²⁶ See Memorandum on Extending Eligibility for Deferred Enforced Departure for Liberians, June 28, 2024, https://www.whitehouse.gov/briefing-room/statements-releases/2024/06/28/memorandum-on-extending-eligibility-for-deferred-enforced-departure-for-liberians/.

Ur M. Jaddou,
Director, U.S. Citizenship and Immigration Services.

Eligibility and Employment Authorization for DED

How will I know if I am eligible for employment authorization under the DED presidential memorandum for Liberians?

Consistent with the President's June 28, 2024, DED memorandum,²⁷ the procedures for employment authorization in this notice apply to noncitizens of the United States who are nationals of Liberia (or individuals having no nationality who last habitually resided in Liberia), who have been continuously physically present in the United States since May 20, 2017, and who were eligible for a grant of DED under the President's 2022 memorandum, except for those:

²⁷ See Memorandum on Extending Eligibility for Deferred Enforced Departure for Liberians, June 28, 2024, https://www.whitehouse.gov/briefing-room/statements-releases/2024/06/28/memorandum-on-extending-eligibility-for-deferred-enforced-departure-for-liberians/.

• individuals who would be ineligible for TPS for the reasons provided in section 244(c)(2)(B) of the Immigration and Nationality Act, 8 U.S.C. 1254a(c)(2)(B);

• individuals who sought or seek LPR status under the LRIF provision but whose applications have been or are denied by the Secretary of Homeland Security due to ineligibility for the LRIF provision under sections 7611(b)(1)(C) and (b)(3) of the NDAA;

• individuals whose removal the Secretary of Homeland Security determines is in the interest of the United States, subject to the LRIF provision;

• individuals whose presence or activities in the United States the Secretary of State has reasonable grounds to believe would have potentially serious adverse foreign policy consequences for the United States;

• individuals who have voluntarily returned to Liberia or their country of last habitual residence outside the United States for an aggregate period of 180 days or more, as specified in subsection (c)(2) of the LRIF provision; or

• individuals who are subject to extradition.

What will I need to file if I am covered by DED and would like to obtain an EAD?

If you are a Liberian covered by DED and want a DED-based EAD, you must file Form I-765. Please carefully follow the Form I-765 instructions when completing the application for an EAD. When filing Form I-765, you must:

• Indicate that you are eligible for DED by entering “(a)(11)” in response to Question 27 on Form I-765; and

• Submit the fee for Form I-765 (or request a fee waiver,²⁸ which you may submit on Form I-912, Request for Fee Waiver). See Fee Schedule (Form G-1055).

²⁸ For information about filing fee waiver requests including through Form I-912, Request for Fee Waiver, see https://www.uscis.gov/forms/filing-fees/additional-information-on-filing-a-fee-waiver.

Supporting Documentation

The filing instructions on Form I-765 list all the documents needed to apply. You may also find information on the initial required documents on the USCIS website at https://www.uscis.gov/i-765. If USCIS determines after reviewing your submission that it needs additional information, we will send you a request for evidence.

How will I know if I must submit my biometrics to USCIS?

If USCIS needs biometrics to produce your EAD after you apply, we will send you a biometrics services appointment notice with the time and location of your appointment. You can prepare for your biometrics appointment by visiting the Preparing for Your Biometric Services Appointment web page at https://www.uscis.gov/forms/filing-guidance/preparing-for-your-biometric-services-appointment. Be sure to bring valid photo identification to your appointment.

Where do I find the fees for a DED-based Form I-765?

You can find the most current filing fees for individuals covered by DED by visiting the Form I-765 page at https://www.uscis.gov/i-765. No biometrics fees are required when you file.

Where do I submit my completed DED-based Form I-765?

For a DED-based EAD, mail your completed Form I-765 and supporting documentation to the proper address in Table 1.

Table 1—Mailing Addresses
If you are . . . | Mail to . . .
Using the U.S. Postal Service (USPS) | USCIS, Attn: DED Liberia, P.O. Box 805283, Chicago, IL 60680-5283.
Using FedEx, UPS, or DHL | USCIS, Attn: DED Liberia, (Box 805283), 131 S Dearborn Street, 3rd Floor, Chicago, IL 60603-5517.

You may file Form I-765 and Form I-131 together or separately. If you are filing multiple applications, petitions, or requests, USCIS recommends sending separate payments for each application. If you submit one payment covering all your applications and we reject one of the applications, petitions, or requests, we will need to reject all the others as well. Find more information below on filing Form I-131.

Can I file my DED-based Form I-765 electronically?

No. Electronic filing is not available to file a DED-based Form I-765.

What happens after June 30, 2026, to DED-based EADs?

This DED authorization is set to end on June 30, 2026. After that date, employers can no longer accept EADs with the Category (a)(11) and a Card Expires date of June 30, 2026. You will need to present other evidence of continued employment authorization, if any, to your employer by July 1, 2026.

Travel

Liberians covered by DED may also apply for and be granted travel authorization as a matter of discretion. You must file for travel authorization if you wish to travel outside of the United States and be eligible to reenter the United States. If USCIS grants travel authorization, we generally give you permission to leave the United States and return during a specific period.To request travel authorization, you must file Form I-131, available at https://www.uscis.gov/i-131. You may file Form I-131 together with your Form I-765 or separately. When completing Form I-131, carefully review the form instructions.

If you leave the United States without first receiving travel authorization, you may no longer be eligible for DED and may not be permitted to reenter the United States. Please also be advised that if you return to Liberia or your country of last habitual residence, even with advance travel authorization, you may not be permitted to resume DED in the United States because the presidential memorandum providing for DED excludes individuals who have voluntarily returned to Liberia or their country of last habitual residence for an aggregate period of 180 days or more.²⁹

²⁹ See Memorandum on Extending Eligibility for Deferred Enforced Departure for Liberians, June 28, 2024, https://www.whitehouse.gov/briefing-room/statements-releases/2024/06/28/memorandum-on-extending-eligibility-for-deferred-enforced-departure-for-liberians/.

Mailing Information

Mail your completed Form I-131 to the proper address provided in Table 1.

Supporting Documentation

The filing instructions for Form I-131 list all the documents you need to include with your application. You may also find information on the acceptable documentation and DED eligibility on the USCIS website at https://www.uscis.gov/humanitarian/deferred-enforced-departure. If USCIS needs additional evidence, we will send you a request for evidence.

General Employment-Related Information for Individuals With DED-Based EADs and Their Employers

How can I obtain information on the status of my EAD request?

To get case status information about your DED-based EAD request, you can check Case Status Online at https://www.uscis.gov, or visit the USCIS Contact Center at https://www.uscis.gov/contactcenter. If you still need assistance, you may ask a question about your case online at https://egov.uscis.gov/e-request/Intro.do or call the USCIS Contact Center at 800-375-5283 (TTY 800-767-1833).

Does this Federal Register notice automatically extend my current EAD through June 30, 2026?

Regardless of your country of birth, if you are a national of Liberia (or a person having no nationality who last habitually resided in Liberia) and you are covered under DED by the June 28, 2024 Presidential Memorandum, this notice automatically extends your DED-based EAD bearing a March 30, 2020, January 10, 2021, June 30, 2022, or June 30, 2024, “Card Expires” date and an (a)(11) Category Code through June 30, 2026. This means that your EAD is valid through June 30, 2026, even though the expiration date on the face of the document has passed.

When I am hired, what documentation may I show to my employer as evidence of identity and employment authorization when completing Form I-9?

You can find the Lists of Acceptable Documents on Form I-9, Employment Eligibility Verification, as well as the Acceptable Documents web page at https://www.uscis.gov/i-9-central/acceptable-documents. Employers must complete Form I-9 to verify the identity and employment authorization of all new employees. Within three business days of hire, employees must present acceptable documents to their employers as evidence of identity and employment authorization to satisfy Form I-9 requirements.

You may present any documentation from List A (which provides evidence of both identity and employment authorization) or documentation from List B (which provides evidence of your identity) together with documentation from List C (which provides evidence of employment authorization), or you may present an acceptable receipt as described in the Form I-9 Instructions. Employers may not reject a document based on a future expiration date. You can find additional information about Form I-9 on the I-9 Central web page at https://www.uscis.gov/I-9Central. An EAD is an acceptable document under List A. If your EAD states (a)(11) under “Category” and has a “Card Expires” date of March 30, 2020, January 10, 2021, June 30, 2022, or June 30, 2024, this notice extends it automatically, and you may choose to present your EAD to your employer as proof of identity and employment eligibility for Form I-9 through June 30, 2026.

If I have an EAD based on another immigration status, can I obtain a new DED-based EAD?

Yes, if you are covered by DED, you can obtain a new DED-based EAD, even if you already have an EAD or employment authorization based on another immigration status or category. If you want to obtain a DED-based EAD valid through June 30, 2026, you must file Form I-765 and pay the associated fee (unless USCIS grants your fee waiver request).

Can my employer require that I provide any other documentation to complete Form I-9, such as evidence of my status or proof of my Liberian citizenship?

No. When completing Form I-9, employers must accept any unexpired documentation that appears on the Form I-9 Lists of Acceptable Documents that reasonably appears to be genuine and that relates to you, or an acceptable List A, List B, or List C receipt. Employers may not request proof of Liberian citizenship when completing Form I-9 for new hires or reverifying the employment authorization of current employees. Refer to the “Note to Employees” section of this Federal Register notice for important information about your rights if your employer rejects lawful documentation, requires additional documentation, or otherwise discriminates against you based on your citizenship or immigration status, or your national origin.

Note to All Employers

Employers are reminded that the laws requiring proper employment eligibility verification and prohibiting unfair immigration-related employment practices remain in full force. This Federal Register notice does not supersede or in any way limit applicable employment verification rules and policy guidance, including those rules listing reverification requirements. For general questions about the employment eligibility verification process, employers may call USCIS at 888-464-4218 (TTY 877-875-6028) or email USCIS at I-9Central@dhs.gov. USCIS accepts calls and emails in English, Spanish, and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov or get more information online at https://www.justice.gov/ier.

Note to Employees

For general questions about the employment eligibility verification process, employees may call USCIS at 888-897-7781 (TTY 877-875-6028) or email USCIS at I-9Central@dhs.gov. USCIS accepts calls and emails in English, Spanish and many other languages. Employees or applicants may also call the IER Worker Hotline at 800-255-7688 (TTY 800-237-2515) for information regarding employment discrimination based on citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 instructions. Employers may not require extra or additional documentation beyond what is required for Form I-9 completion. Further, employers participating in E-Verify who receive an E-Verify case result of “Tentative Nonconfirmation” (mismatch) must promptly inform employees of the mismatch and give such employees an opportunity to resolve the mismatch. A mismatch means that the information entered into E-Verify from Form I-9 differs from records available to DHS.

Employers may not terminate, suspend, delay training, withhold or lower pay, or take any adverse action against an employee because of a mismatch while the case is still pending with E-Verify. A Final Nonconfirmation (FNC) case result occurs if E-Verify cannot confirm an employee's employment eligibility. An employer may terminate employment based on a case result of FNC. Employment-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS and E-Verify websites at https://www.uscis.gov/i-9-central and https://www.e-verify.gov.

Note Regarding Federal, State, and Local Government Agencies (Such as Departments of Motor Vehicles)

If you are applying for a Federal, state, or local government benefit, you may need to provide the government agency with documents that show you are covered under DED or authorized to work based on DED or both. Check with the government agency requesting documentation about which documents the agency will accept.

Some government agencies use SAVE, https://www.uscis.gov/save, to confirm the current immigration status of applicants for public benefits and licenses. SAVE can verify that an individual is covered by DED based on an EAD with category (a)(11) or a Form I-797, Notice of Action, reflecting approval of your Form I-765 for an EAD with a DED category of (a)(11). In most cases, SAVE provides an automated electronic response to benefit-granting agencies within seconds, but occasionally verification can be delayed.

You can check the status of your SAVE verification by using CaseCheck at https://www.uscis.gov/save/save-casecheck. CaseCheck is a free service that lets you follow the progress of your SAVE verification case using your date of birth and one immigration identifier number (such as your A-Number or USCIS number) or Verification Case Number. If an agency has denied your application based solely or in part on a SAVE response, the agency must allow you to appeal the decision in accordance with the agency's procedures. If the agency has received and acted on or will act on a SAVE verification, and you do not believe the SAVE response is correct, the SAVE website, https://www.uscis.gov/save/for-benefit-applicants, has detailed information on how to correct or update your immigration record, make an appointment, or submit a written request to correct records.

[FR Doc. 2024-21661 Filed 9-23-24; 8:45 am]

BILLING CODE 9111-97-P